DEPARTMENT OF COMMERCE

National Oceanic and Atmospheric Administration

[RTID 0648-XC910]

Caribbean Fishery Management Council; Public Meetings

AGENCY: National Marine Fisheries Service (NMFS), National Oceanic and Atmospheric Administration (NOAA), Commerce.

ACTION: Notice of public hybrid (in person/virtual) meetings.

SUMMARY: The Caribbean Fishery Management Council's (Council) Scientific and Statistical Committee (SSC) will hold public hybrid meetings to address the items contained in the tentative agenda included in the SUPPLEMENTARY INFORMATION.

DATES: The SSC public hybrid meetings will be held on Wednesday, May 3, 2023, from 9 a.m. to 5 p.m. (AST), May 4, 2023, from 9 a.m. to 5 p.m. (AST), and Friday, May 5, 2023, from 9 a.m. to 12 p.m. (AST).

ADDRESSES: The meetings will be held at the Courtyard by Marriott Isla Verde Resort, 7012 Boca de Cangrejos Avenue, Carolina, Puerto Rico 00979.

You may join the SSC public hybrid meetings via Zoom by entering the following address: https://us02web.zoom.us/j/82869224079?pwd=VU43dFFTelRwVGFEUGh1dmp4Y2YzZz09.

Meeting ID: 828 6922 4079.

Passcode: 481994.

One tap mobile

+12532158782,,82869224079#,,,,*481994# US (Tacoma)

+13017158592,,82869224079#,,,,*481994# US (Washington DC)

Dial by your location

+1 301 715 8592 US (Washington DC)

+1 305 224 1968 USs

+1 309 205 3325 US

+1 929 205 6099 US (New York)

+1 253 205 0468 US

Meeting ID: 828 6922 4079.

Passcode: 481994.

Find your local number: https://us02web.zoom.us/u/kejhDuUaUC.

In case of problems with ZOOM please join the meetings via GoToMeeting:

Please join my meeting from your computer, tablet or smartphone. https://meet.goto.com/991924029.

You can also dial in using your phone.

(For supported devices, tap a one-touch number below to join instantly.)

United States: +1 (669) 224-3412.

-One-touch: tel: +16692243412,,991924029#.

Access Code: 991-924-029.

FOR FURTHER INFORMATION CONTACT: Liajay Rivera-García, Caribbean Fishery Management Council, 270 Muñoz Rivera Avenue, Suite 401, San Juan, Puerto Rico 00918-1903, telephone: (787) 766-5926.

SUPPLEMENTARY INFORMATION: The following items included in the tentative agenda will be discussed:

May 3, 2023

9 a.m.-10:30 a.m.

—Roll Call

—Overview of SSC's Research Priorities Work to Date

10:30 a.m.-12 p.m.

—Research Priorities

12 p.m.-1 p.m.

—Lunch

1 p.m.-5 p.m.

—Continuation of Research Priorities

—Other Business

May 4, 2023

9 a.m.-10:30 a.m.

—Roll Call

—SEDAR 80 USVI Queen Triggerfish—Adyan Rios, SEFSC Caribbean Fisheries Branch

10:30 a.m.-10:45 a.m.

—Break

10:45 a.m.-12 p.m.

—Continuation on SEDAR 80 USVI Queen Triggerfish—Adyan Rios, SEFSC Caribbean Fisheries Branch

—Recommendations to CFMC

12 p.m.-1:30 p.m.

—Lunch

1:30 p.m.-2:30 p.m.

—Spiny Lobster Terms of Reference—Kevin McCarthy, SEFSC Caribbean Fisheries Branch

2:30 p.m.-2:40 p.m.

—Break

2:40 p.m.-3:40 p.m.

—SSC Recommendations to CFMC

3:40 p.m.-5 p.m.

—SEDAR 84 Volunteers

—SEDAR Research Priorities

—Other Business

May 5, 2023

9 a.m.-10:30 a.m.

—Roll Call

—Update on Research Priorities

10:30 a.m.-12 p.m.

—Finalize Research Priorities

—Other Business

12 p.m.

—Adjourn

The order of business may be adjusted as necessary to accommodate the completion of agenda items. The SSC public hybrid meetings will begin on May 3, 2023, at 9 a.m. AST, and will end on May 5, 2023, at 12 noon, AST. Other than the start time, interested parties should be aware that discussions may start earlier or later than indicated, at the discretion of the Chair. In addition, the meeting may be completed prior to the date established in this notice.

Special Accommodations

For any additional information on this public virtual meeting, please contact Liajay Rivera-Garcia, Caribbean Fishery Management Council, 270 Muñoz Rivera Avenue, Suite 401, San Juan, Puerto Rico, 00918-1903, telephone: (787) 403-8337.

Authority: 16 U.S.C. 1801 et seq.

Dated: April 12, 2023.
Rey Israel Marquez,
Acting Deputy Director, Office of Sustainable Fisheries, National Marine Fisheries Service.

[FR Doc. 2023-08086 Filed 4-14-23; 8:45 am]

BILLING CODE 3510-22-P